FEDERAL COMMUNICATIONS COMMISSION

[PS Docket Nos. 15-80; FR ID 69281]

Potential Safeguards in Connection With NORS-DIRS Information Sharing Public Notice

AGENCY: Federal Communications Commission.

ACTION: Notice.

SUMMARY: In this document, the Public Safety and Homeland Security Bureau (Bureau) of the Federal Communication Commission (FCC or Commission) seeks comment on the cost, manner, and technical feasibility of technological safeguards to protect the integrity of NORS and DIRS information that will be shared with agencies granted access to the information pursuant to the Second Report and Order.¹

¹ See Amendments to Part 4 of the Commission's Rules Concerning Disruptions to Communications, PS Docket No. 15-80, Second Report and Order, 36 FCC Rcd 6136 (2021) (Second Report and Order).

DATES: Submit comments on or before March 9, 2022.

ADDRESSES: You may submit comments, identified by PS Docket Nos. 15-80, by any of the following methods:

• Federal Communications Commission's website: http://fjallfoss.fcc.gov/ecfs2/. Follow the instructions for submitting comments.

• Filings can be sent by commercial overnight courier, or by first-class or overnight U.S. Postal Service mail. See the SUPPLEMENTARY INFORMATION section for more instructions.

• People with Disabilities: Contact the FCC to request reasonable accommodations (accessible format documents, sign language interpreters, CART, etc.) by email: FCC504@fcc.gov or phone: 202-418-0530 or TTY: 202-418-0432. For detailed instructions for submitting comments see the SUPPLEMENTARY INFORMATION section of this document.

FOR FURTHER INFORMATION CONTACT: For general questions, contact Scott Cinnamon, Attorney Advisor, Cybersecurity and Communications Reliability Division, Public Safety and Homeland Security Bureau, at (202) 418-2319 or scott.cinnamon@fcc.gov.

SUPPLEMENTARY INFORMATION: This is a summary of the Potential Safeguards in Connection with NORS-DIRS Information Sharing Public Notice, PS Docket Nos. 15-80; DA 21-62, released January 19, 2022.

The complete text of the Potential Safeguards in Connection with NORS-DIRS Information Sharing Public Notice is also available electronically at: https://www.fcc.gov/document/pshsb-seeks-comments-nors-dirs-information-sharing-safeguards.

I. Background

On March 17, 2021, the Commission adopted a framework to allow sharing certain communications network outage information submitted to the FCC's NORS and DIRS systems with state, federal, and Tribal nation agencies to improve situational awareness, enhance their ability to response more rapidly to outages, and to help save lives. Information submitted in NORS and DIRS “is sensitive for reasons concerning national security and commercial competitiveness, and the Commission this treats it as presumptively confidential.” ²

² Second Report and Order, 36 FCC Rcd at 6137, para 2.

To protect the confidentiality and integrity of this sensitive information, the Second Report and Order adopted four specific safeguards: “(1) providing read-only access to the NORS and DIRS filings; (2) limiting the number of users with access to NORS and DIRS filings at participating agencies; (3) requiring special training for participating agencies regarding their privileges and obligations under the program; and (4) potentially terminating access to agencies that misuse or improperly disclose NORS and DIRS data.” ³

³ Second Report and Order, 36 FCC Rcd at 6153, para. 58.

II. Comment on the Cost, Utility and Feasibility of Specific Safeguards and Suggestions for Additional Safeguards

Acknowledging the utility of proposals raised by commenters earlier in this proceeding, the Commission directed the Bureau to “to seek, via Public Notice, further information on the cost, manner and technical feasibility” of including confidential notifications, headers, or watermarks on the read-only outage reports.⁴ The Bureau seeks specific comments on the usefulness and effectiveness of these specific safeguards as well as information on costs and feasibility of these proposals.

⁴ Second Report and Order, 36 FCC Rcd at 6154, para. 61.

The Bureau was further directed to “implement in NORS and DIRS any measures and safeguards that it determines suitable and in the public interest based on the record developed in response to the Public Notice.” ⁵ Keeping in mind that proposed safeguards “should not impose new regulatory requirements on service providers or additional conditions on agencies seeking access to outage data,” the Bureau invites comments proposing additional technical measures to preserve the confidentiality and integrity of the newly shared NORS and DIRS data.⁶

⁵ Id.

⁶ Id.

III. Implementation

Following the receipt of comments, the Bureau will release a Public Notice specifying any technical safeguards implemented in response to this Public Notice. To the extent necessary, these changes may be made without prior notice-and-comment under the Administrative Procedure Act as “rules of agency organization, procedure, or practice,” 5 U.S.C. 553(b)(A). The Bureau will then seek Office of Management and Budget (OMB) approval of the modifications to the extent required under the Paperwork Reduction Act. Upon receipt of OMB approval, and the Bureau's completion of all necessary changes to the systems, the Bureau will announce that the modifications are effective.

IV. Procedural Matters

Interested parties may file comments in response to this Public Notice on or before the date indicated on the first page of this document. See Electronic Filing of Documents in Rulemaking Proceedings, 63 FR 24121 (1998). Comments may be filed using the Commission's Electronic Comment Filing System (ECFS).

Electronic Filers: Comments may be filed electronically using the internet by accessing the ECFS: http://apps.fcc.gov/ecfs/.

Paper Filers: Parties who choose to file by paper must file an original and one copy of each filing.

Filings can be sent by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701. U.S. Postal Service first-class, Express, and Priority mail must be addressed to 45 L Street NE, Washington, DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020).

To request materials in accessible formats for people with disabilities (braille, large print, electronic files, audio format), send an email to fcc504@fcc.gov or call the Consumer & Governmental Affairs Bureau at 202-418-0530 (voice), 202-418-0432 (tty).

This proceeding has been designated as a “permit-but-disclose” proceeding in accordance with the Commission's ex parte rules. See 47 CFR 1.1200(a), 1.1206. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
David Furth,
Deputy Chief, Public Safety and Homeland Security Bureau.

[FR Doc. 2022-02435 Filed 2-4-22; 8:45 am]

BILLING CODE 6712-01-P